DEPARTMENT OF ENERGY

Federal Energy Regulatory Commission

[Docket No. PF08-12-000]

Northern Natural Gas Company; Notice of Intent To Prepare an Environmental Assessment for the Proposed Northern Lights 2009-2010 Zone EF Expansion Project and Request for Comments on Environmental Issues

March 20, 2008.

The staff of the Federal Energy Regulatory Commission (FERC or Commission) will prepare an environmental assessment (EA) that will discuss the environmental impacts of the proposed Northern Lights 2009-2010 Zone EF Expansion Project involving construction and operation of facilities by Northern Natural Gas Company (Northern) in Carver, Wright, Hennepin, Dakota, Anoka, Washington, and Freeborn Counties, Minnesota. The EA will be used by the Commission in its decision-making process to determine whether the project is in the public convenience and necessity.

This notice announces the opening of the scoping process the Commission will use to gather input from the public and interested agencies on the project. Your input will help determine which issues need to be evaluated in the EA. Please note that the scoping period for this Notice will close on April 21, 2008. Details on how to submit comments are provided in the Public Participation section of this notice. Further notice will be issued in the near future regarding any local public comment meetings to be held by the Commission staff.

This notice is being sent to affected landowners; federal, state, and local government representatives and agencies; elected officials; other interested parties; and local libraries and newspapers. State and local government representatives are asked to notify their constituents of this proposed project and to encourage them to comment on their areas of concern.

A brochure prepared by the FERC entitled “An Interstate Natural Gas Facility on My Land?” is available for viewing on the FERC Internet Web site (http://www.ferc.gov). This brochure addresses a number of typically asked questions.

Summary of the Proposed Project

Northern wants to expand the capacity of its facilities in Minnesota to transport an additional 135,000 decatherms per day of natural gas for incremental firm winter service. Northern seeks authority to construct and operate:

• An approximately 6.34-mile-long extension of the 30-inch-diameter Faribault-Farmington D-Line;

• an approximately 5.98-mile-long extension of the 20-inch-diameter Farmington-North Branch C-Line;

• an approximately 5.9-mile-long extension of the 20-inch-diameter Elk River loop;

• the replacement of approximately 10.99 miles of the 3- and 2-inch-diameter Rockford Branch Line with 22.65 miles of 16-inch-diameter pipeline;

• an approximately 10.68 miles of the 16-inch-diameter Greenfield Corcoran Branch Line;

• a new 15,000 horsepower ISO-rated greenfield compressor station located near Albert Lea, Minnesota; and

• 1 new Corcoran meter station.

The general location of the project facilities is shown in Appendix 1.¹

¹ The appendices referenced in this notice are not being printed in the Federal Register. Copies of all appendices are available on the Commission's Web site at the “eLibrary” link or from the Commission's Public Reference Room, 888 First Street, NE., Washington, DC 20426, or call (202) 502-8371. For instructions on connecting to eLibrary refer to the last page of this notice. Copies of the appendices were sent to all those receiving this notice in the mail.

Land Requirements

Construction of the proposed facilities would require approximately 664 acres of land. Following construction, approximately 323.0 acres would be maintained as new pipeline right-of-way and aboveground facility sites. The remaining acreage would be restored and allowed to revert to its former use. Surveys are still ongoing during pre-filing and acreages are apt to change.

The EA Process

We ² are preparing this EA to comply with the National Environmental Policy Act (NEPA) which requires the Commission to take into account the environmental impact that could result if it authorizes Northern's proposal. By this notice, we are also asking Federal, State, and local agencies with jurisdiction and/or special expertise with respect to environmental issues to formally cooperate with us in the preparation of the EA.

² “We,” “us,” and “our” refer to the environmental staff of the FERC's Office of Energy Projects.

Agencies that would like to request cooperating status should follow the instructions for filing comments provided below.

The purpose of the Pre-filing Process is to seek public and agency input early in the project planning phase and encourage involvement by interested stakeholders in a manner that allows for the early identification and resolution of environmental issues. We will work with all interested stakeholders to identify and attempt to address issues before Northern files its application with the FERC.

NEPA also requires the FERC to discover and address concerns the public may have about proposals. This process is referred to as “scoping.” The main goal of the scoping process is to focus the analysis in the EA on the important environmental issues. By this Notice of Intent, we are requesting public comments on the scope of the issues to address in the EA. All comments received will be considered during the preparation of the EA. As part of the Pre-filing Process review, FERC staff representatives will participate in three public open houses sponsored by Northern in the project areas on April 15-17, 2008 to explain the environmental review process to interested stakeholders and take comments about the project.

The EA will discuss impacts that could occur as a result of the construction and operation of the proposed project under these general headings:

• Geology and soils

• water resources, fisheries, and wetlands

• endangered and threatened species

• land use

• cultural resources

• vegetation and wildlife (including sensitive species)

• air and noise quality.

We will also evaluate possible alternatives to the proposed project or portions of the project, and make recommendations on how to lessen or avoid impacts on the various resource areas.

Our independent analysis of the issues will be in the EA which will be published and mailed to federal, state, and local agencies, interested individuals who return the Information Request Form in Appendix 3, and the Commission's official service list for this proceeding. A comment period will be allotted for review when the EA is published. We will consider all comments on the EA before we make our recommendations to the Commission.

Although no formal application has been filed, the FERC staff has already initiated its NEPA review under its Pre-filing Process. The purpose of the Pre-filing Process is to encourage the early involvement of interested stakeholders and to identify and resolve issues before an application is filed with the FERC. Once a formal application is filed with the FERC, a new docket number will be established.

Currently Identified Environmental Issues

We have already identified several issues that we think deserve attention based on a preliminary review of the proposed facilities and the environmental information provided by Northern. This preliminary list of issues may be changed based on your comments and our analysis.

• Federally listed endangered or threatened species may occur in the proposed project area.

• Construction impacts to wetlands located in the proposed project area.

Also, we have made a preliminary decision to not address the impacts of the nonjurisdictional facilities. We will briefly describe their location and status in the EA.

Public Participation

You can make a difference by providing us with your specific comments or concerns about the project. By becoming a commentor, your concerns will be addressed in the EA and considered by the Commission. You should focus on the potential environmental effects of the proposal, reasonable alternatives to the proposal including alternative locations and routes, and measures to avoid or lessen environmental impact. The more specific your comments, the more useful they will be. Please carefully follow these instructions to ensure that your comments are received in time and properly recorded:

• Send an original and two copies of your letter to Kimberly D. Bose, Secretary, Federal Energy Regulatory Commission, 888 First St., NE.; Room 1A, Washington, DC 20426.

• Label one copy of the comments for the attention of Gas Branch 3.

• Reference Docket No. PF08-12-000.

• Mail your comments so that they will be received in Washington, DC on or before April 21, 2008.

The Commission strongly encourages electronic filing of any comments, interventions or protests to this proceeding. See 18 Code of Federal Regulations 385.2001(a)(1)(iii) and the instructions on the Commission's Web site at http://www.ferc.gov under the link to “Documents and Filings” and “eFiling.” eFiling is a file attachment process and requires that you prepare your submission in the same manner as you would if filing on paper, and save it to a file on your hard drive. New eFiling users must first create an account by clicking on “Sign up” or “eRegister.” You will be asked to select the type of filing you are making. This filing is considered a “Comment on Filing.” In addition, there is a “Quick Comment” option available, which is an easy method for interested persons to submit text only comments on a project. The Quick-Comment User Guide can be viewed at http://www.ferc.gov/docs-filing/efiling/quick-comment-guide.pdf. Quick Comment does not require a FERC eRegistration account; however, you will be asked to provide a valid email address. All comments submitted under either eFiling or the Quick Comment option are placed in the public record for the specified docket or project number.

If you are interested in receiving a copy of the EA, please return the Information Request Form (Appendix 3). If you do not return the Information Request, you will be taken off the mailing list.

Once Northern formally files its application with the Commission, you may want to become an official party to the proceeding known as an “intervenor.” Intervenors play a more formal role in the process and are able to file briefs, appear at hearings, and be heard by the courts if they choose to appeal the Commission's final ruling. An intervenor formally participates in a Commission proceeding by filing a request to intervene. Instructions for becoming an intervenor are included in the User's Guide under the “e-filing” link on the Commission's web site. Please note that you may not request intervenor status at this time. You must wait until a formal application is filed with the Commission.

Site Visits

On April 15-17, 2008, the OEP staff will conduct a site visit of the planned Northern Lights Zone EF Expansion Project. We will view the proposed facility locations and pipeline route. Examination will be by automobile and on foot. Representatives of Northern will be accompanying the OEP staff.

All interested parties may attend. Those planning to attend must provide their own transportation and should meet at the following locations:

Monday, April 14, 2008

2:30 p.m. Site visit for Elk River Loop Extension. Meet at Prairie Knoll Park, 14800 Prairie Road NW (off of 146th Lane), Andover, MN 55304.

Tuesday, April 16, 2008

9 a.m. Site visit for Rockford BL Replacement. Meet at American Inn Lodge & Suites, 36 S. Elm Street, Waconia, MN 55387.

1 p.m. Site visit for Corcoran MN BL. Meet at Woody's on Main, 6030 Main Street, Rockford, MN 55373.

Wednesday, April 17, 2008

9 a.m. Site visit for C-Line Extension. Meet at The Machine Shed Restaurant, 8515 Hudson Boulevard (I-94 & Inwood Avenue), Lake Elmo, MN 55042.

2:30 p.m. Site visit for D-Line Extension. Meet at the Big Steer Travel Plaza (Sunco Station), 8051 Bagley Avenue, Northfield, MN 55057.

Thursday, April 18, 2008

2:30 p.m. Site visit for Albert Lea Compressor Station. Meet at Gopher Stop Convenience Store, 3598 West Highway 30 (I-35 at Exit 26), Ellendale, MN 56026.

For additional information, please contact the Commission's Office of External Affairs at 1-866-208-FERC (3372).

Environmental Mailing List

An effort is being made to send this notice to all individuals, organizations, and government entities interested in and/or potentially affected by the proposed project. This includes all landowners who are potential right-of-way grantors, whose property may be used temporarily for project purposes, or who own homes within distances defined in the Commission's regulations of certain aboveground facilities. By this notice we are also asking governmental agencies, especially those in Appendix 2, to express their interest in becoming cooperating agencies for the preparation of the EA.

Additional Information

Additional information about the project is available from the Commission's Office of External Affairs, at 1-866-208-FERC or on the FERC Internet Web site (http://www.ferc.gov) using the “eLibrary” link. Click on the eLibrary link, click on “General Search” and enter the docket number excluding the last three digits in the Docket Number field. Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, public meetings or site visits will be posted on the Commission's calendar located at http://www.ferc.gov/EventCalendar/EventsList.aspx along with other related information.

Kimberly D. Bose,
Secretary.

[FR Doc. E8-6220 Filed 3-26-08; 8:45 am]

BILLING CODE 6717-01-P